DEPARTMENT OF THE INTERIOR

Bureau of Land Management

[LLCON03000-L14300000-FR0000; COC-73780]

Notice of Realty Action; Recreation and Public Purposes Act Classification and Conveyance of Public Land in Mesa County, CO

AGENCY: Bureau of Land Management, Interior.

ACTION: Notice of realty action.

SUMMARY: The Bureau of Land Management (BLM) Grand Junction Field Office examined approximately 80 acres of public land in Mesa County, Colorado and found the land suitable for classification for sale under the provisions of the Recreation and Public Purposes Act (R&PP). Colorado Mesa University (formerly Mesa State College) proposes to use the land for construction and operation of a Peace Officer Standards and Training (POST) Academy and Mesa County Regional Public Safety Training Facility (RPSTF).

DATES: Interested parties may submit written comments regarding the proposed sale or classification on or before October 11, 2011. Any adverse comments will be reviewed by the BLM Colorado State Director, who may sustain, vacate or modify this realty action and issue a final determination. In the absence of any adverse comments, this realty action will become final on October 24, 2011. The land will not be offered for sale until the classification becomes effective.

ADDRESSES: Comments should be sent to the BLM, Grand Junction Field Office, 2815 H Road, Grand Junction, Colorado 81506, ATTN: Robin Lacy. Information concerning the proposed land sale, including reservations, planning documents and mineral report is available for review at the Grand Junction Field Office. Normal business hours are 7:45 am to 4:30 pm, Monday through Friday, except Federal holidays.

FOR FURTHER INFORMATION CONTACT: Robin Lacy, Realty Specialist, at (970) 244-3028, at the above address or by e-mail at: rlacy@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM examined and found the following public lands in Mesa County, Colorado, suitable for classification for sale to Colorado Mesa University (formerly Mesa State College) under the provisions of the R&PP Act, as amended (43 U.S.C. 869 et seq.), the Taylor Grazing Act (43 U.S.C. 315(f)) (classification) and Executive Order No. 6910:

Ute Principal Meridian, Colorado,

T. 2 S., R. 1 E.

Section 2: lots 5 and 8, N½NW¼SE¼NE¼, N½NE¼SW¼NE¼.

The area described contains 78.7 acres in Mesa County.

The land is withdrawn for U.S. Department of the Interior, Bureau of Reclamation (BOR) purposes; however, under the provisions of 43 CFR 2741.5(g), lands under the jurisdiction of another agency can be conveyed for R&PP purposes with that agency's approval. The BOR issued a memorandum dated April 21, 2009, stating that it has no objection to the proposed R&PP conveyance because the subject lands are no longer necessary for reclamation purposes. The sale is consistent with the BLM Grand Junction Record of Decision and Approved Resource Management Plan dated January 1987, as amended, and would be in the public interest.

In accordance with the R&PP Act, Colorado Mesa University (Formerly Mesa State College) filed an R&PP application to develop the above described land as a POST Academy and RPSTF to include the following facilities: target shooting range, driving training track, off-road vehicle training course, obstacle course and classrooms. The patent, if issued, will be subject to the following reservations, terms and conditions:

1. A reservation of a right-of-way thereon for ditches or canals constructed by the authority of the United States, pursuant to the Act of August 30, 1890 (43 U.S.C. 945).

2. Provisions of the R&PP Act and all applicable regulations.

3. All minerals shall be reserved to the United States, together with the right to prospect for, mine and remove the minerals under applicable laws, along with all necessary access and exit rights.

4. Any valid rights-of-way that may exist at the time of sale.

5. The patent would contain the following indemnification statement:

Colorado Mesa University, its successors or assigns, shall defend, indemnify, and hold harmless the United States and its officers, agents, representatives, and employees (hereinafter referred to in this clause as the United States), from all claims, loss, damage, actions, causes of action, expense, and liability (hereinafter referred to in this clause as claims) resulting from, brought for, or on account of, any personal injury, threat of personal injury, or property damage received or sustained by any person or persons (including the patentee's employees) or property growing out of, occurring or attributable directly or indirectly to, the disposal of solid waste on, or the release of hazardous substances from Ute Principal Meridian, Colorado, T. 2 S., R. 1 E., Section 2: Lots 5 and 8, N½NW¼SE¼NE¼, N½NE¼SW¼NE¼, regardless of whether such claims shall be attributable to: (1) The concurrent, contributory, or partial fault, failure, or negligence of the United States, or (2) the sole fault, failure, or negligence of the United States. In the event of payment, loss, or expense under this agreement, the patentee shall be subrogated to the extent of the amount of such payment to all rights, powers, privileges, and remedies of the United States against any person regarding such payment, loss, or expense.

6. A patent would specify that no portion of the land conveyed shall under any circumstances revert to the United States if such portion has been used for solid waste disposal or for any other purpose that the Secretary finds may result in the disposal, placement or release of any hazardous substance.

7. The patentee would be required to comply with all Federal and state laws applicable to the disposal, placement or release of hazardous substances (hazardous substance as defined in 40 CFR part 302).

8. A patent would contain the following indemnification statement under the Comprehensive Environmental Response Compensation and Liability Act:

Pursuant to the requirements established by Section 120(h) of the Comprehensive Environmental Response Compensation and Liability Act (42 U.S.C. 9620), as amended by the Superfund Amendments And Reauthorization Act of 1988, (100 Stat. 1670), notice is hereby given that the above described parcel has been examined and no evidence was found to indicate that any hazardous substances have been stored for one year or more, nor had any hazardous substances been disposed of or released on the subject property.

A limited reversionary provision would state that the title shall revert to the United States upon a finding that the patentee has not substantially developed the land in accordance with the approved plan of development within 5 years from the date of sale finding (after notice and opportunity for a hearing). No portion of the land conveyed will, under any circumstances, revert to the United States if such portion has been used for solid waste disposal or any other purpose that may result in the disposal, placement or release of any hazardous substance.

Upon publication of this notice in the Federal Register, the lands described above will be segregated from all other forms of appropriation under the public land laws, including the general mining laws, except for conveyance under the R&PP Act. The segregative effect shall terminate upon issuance of a patent, upon final rejection of the application, or 18 months from the date of this notice, whichever occurs first.

Classification Comments: Interested parties may submit comments involving the suitability of the land for use as a POST Academy and PRSTF. Comments on the classification are restricted to whether the land is physically suitable for the proposed use, whether the use will maximize the future use or uses of the land, whether the use is consistent with local planning and zoning, or if the use is consistent with state and Federal programs.

Application Comments: Interested parties may submit comments regarding the specific use proposed in the application and plan of development, whether the BLM followed proper administrative procedures in reaching the decision, or any other factor not related to the suitability of the land for the proposed use. Before including your address, phone number, e-mail address, or other personal identifying information in your comment, you should be aware that your entire comment—including your personal identifying information—may be made publicly available at any time. While you can ask us in your comment to withhold your personal identifying information from public review, we cannot guarantee that we will be able to do so.

Only written comments submitted by postal service or overnight mail to the BLM Grand Junction Field Office will be considered properly filed. E-mail, fax, or telephone comments will not be considered properly filed. Documents related to this action are on file in the BLM Grand Junction Field Office at the address above and may be reviewed by the public at their request.

Authority: 43 CFR 2741.5.

Anna Marie Burden,
Acting State Director.

[FR Doc. 2011-21759 Filed 8-24-11; 8:45 am]

BILLING CODE 4310-JB-P